SMALL BUSINESS ADMINISTRATION

[License No. 04040348]

Wells Fargo Strategic Capital SBIC, L.P.; Surrender of License of Small Business Investment Company

Pursuant to the authority granted to the United States Small Business Administration under Section 309 of the Small Business Investment Act of 1958, as amended, and 13 CFR 107.1900 of the Code of Federal Regulations to function as a small business investment company under the Small Business Investment Company License No. 04040348 issued to Wells Fargo Strategic Capital SBIC, L.P. said license is hereby declared null and void.

Paul Salgado,
Director, Investment Monitoring Portfolio, Office of Investment and Innovation.

[FR Doc. 2026-01864 Filed 1-29-26; 8:45 am]

BILLING CODE P